ENVIRONMENTAL PROTECTION AGENCY

[FRL-9197-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1696.06; Fuels and Fuel Additives: Health-Effects Research Requirements for Manufacturers; 40 CFR part 79, subpart F; was approved on 08/05/2010; OMB Number 2060-0297; expires on 08/31/2013; Approved without change.

EPA ICR Number 2366.02; Stormwater Management Including Discharges From Developed Sites Questionnaires (Revision); was approved on 08/06/2010; OMB Number 2040-0282; expires on 08/31/2013; Approved with change.

EPA ICR Number 2228.03; Reformulated Gasoline Commingling Provisions; 40 CFR 80.78; was approved on 08/13/2010; OMB Number 2060-0587; expires on 08/31/2013; Approved without change.

EPA ICR Number 2322.01; Critical Public Information Needs during Drinking Water Emergencies (New); was approved on 08/16/2010; OMB Number 2080-0079; expires on 08/31/2013; Approved without change.

EPA ICR Number 2243.06; Procedures for Implementing the National Environmental Policy Act (NEPA) and Assessing the Environmental Effects Abroad of EPA Actions (Renewal); 40 CFR 6.301; was approved on 08/18/2010; OMB Number 2020-0033; expires on 08/31/2013; Approved without change.

EPA ICR Number 1058.10; NSPS for Incinerators; 40 CFR part 60, subparts A and E; was approved on 08/20/2010; OMB Number 2060-0040; expires on 08/31/2013; Approved without change.

EPA ICR Number 1975.07; NESHAP for Stationary Reciprocating Internal Combustion Engines; 40 CFR part 63, subparts A and ZZZZ; was approved on 08/23/2010; OMB Number 2060-0548; expires on 08/31/2013; Approved with change.

EPA ICR Number 2173.04; EPA's Green Power Partnership and Combined Heat and Power Partnership (Change); was approved on 08/26/2010; OMB Number 2060-0578; expires on 06/30/2012; Approved with change.

Comment Filed

EPA ICR Number 2203.03; Amendments to the Protocol Gas Verification Program, and Minimum Competency Requirements for Air Emission Testing; in 40 CFR parts 72 and 75; OMB filed comment on 08/20/2010.

Dated: September 1, 2010.
John Moses,
Director, Collections Strategies Division.

[FR Doc. 2010-22326 Filed 9-7-10; 8:45 am]

BILLING CODE 6560-50-P